DEPARTMENT OF COMMERCE

National Oceanic and Atmospheric Administration

50 CFR Part 660

[I.D. 090403B]

Western Pacific Fishery Management Council; Public Meeting

AGENCY: National Marine Fisheries Service (NMFS), National Oceanic and Atmospheric Administration (NOAA), Commerce.

ACTION: Notice of public meeting/public hearing.

SUMMARY: The original public meeting document was published in the Federal Register on August 27, 2003. Due to the U.S. District Court ruling made by Judge Colleen Kollar-Kotelly, on August 31, 2003, the 2002 Biological Opinion, issued on November 15, 2002, is “vacated and remanded to the National Marine Fisheries Service.” Further, Judge Kollar-Kotelly ordered that the regulations issued on June 12, 2002, amending the Fishery Management Plan for the Pelagic Fisheries of the Western Pacific Region (Pelagics FMP), are “vacated and remanded to the National Marine Fisheries Service.” The Western Pacific Fishery Management Council (Council) meeting document is republished.

DATES: The Western Pacific Fishery Management Council will meet on September 23, 2003, at 12 noon Hawaii Standard Time.

ADDRESSES: The Council meeting will be held via telephone conference call at the Council offices, 1164 Bishop Street, Suite 1400, Honolulu Hawaii 96813; telephone: 808-522-8220; Call in number: 1-808-527-2929 PIN 5785; FAX: 808-522-8226.

FOR FURTHER INFORMATION CONTACT: Kitty M. Simonds, Executive Director; telephone: 808-522-8220.

SUPPLEMENTARY INFORMATION: The agenda during the Council meeting will include the following items:

1. Pelagic Fisheries

A. Discuss the implications of the ruling of U.S. District Court Judge Colleen Kollar-Kotelly, which puts aside the 2002 Biological Opinion and 2002 regulations.

B. Review and discuss sea-turtle take mitigation measures for the U.S. pelagic longline fishery in the Western Pacific Region. Topics may include continued operation of the fishery, regulations, and/or possible emergency actions.

In 2002, the Council developed a regulatory framework adjustment to the Pelagics FMP which was intended to minimize interactions with, and harm to, Pacific sea turtles. These measures stemmed from the non-discretionary Reasonable and Prudent Alternative contained in a Biological Opinion issued in 2001 by NMFS under the Endangered Species Act. Among the various measures implemented were a prohibition on shallow-set longline fishing north of the equator, and a seasonal area closure from 15° N. lat. to the equator, and from 145° W. long. to 180° long. to all fishing by pelagic longline vessels during April and May of each year. These measures have contributed to reductions in sea turtle interactions. However, the southern area closure exacts a significant economic burden on the Hawaii-based longline fleet because it is unable to access these fishing grounds when bigeye and yellowfin tuna stocks are seasonally abundant during April and May. At its 118th meeting in June 2003, the Council took initial action to consider modifying the southern area closure to reduce the economic impact on the longline fishery while continuing to conserve turtles. The Council also directed its staff to continue preparation of a regulatory amendment for potential changes to the Pelagics FMP, including a detailed analysis of a range of modifications to the southern area closure and the impacts of those alternatives on sea turtles, fisheries, and the environment. At its 119th meeting, the Council will discuss the ruling by U.S. District Court Judge Colleen Kollar-Kotelly, and consider the implications of that ruling for proposed amendments to the Pelagics FMP. The Council will also review and discuss sea-turtle take mitigation measures for the U.S. pelagic longline fishery in the Western Pacific Region. These may include continuation of the fishery, developing regulations, and/or possible emergency actions.

2. Other Business

Although non-emergency issues not contained in this agenda may come before the Council for discussion, those issues may not be the subject of formal Council action during this meeting. Council action will be restricted to those issues specifically listed in this document and to any issue arising after publication of this document that requires emergency action under section 305(c) of the Magnuson-Stevens Fishery Conservation and Management Act, provided that the public has been notified of the Council's intent to take final action to address the emergency.

Special Accommodations

This meeting is physically accessible to people with disabilities. Requests for sign language interpretation or other auxiliary aids should be directed to Kitty M. Simonds, (808)522-8220 (voice) or (808)522-8226 (fax), at least 5 days prior to the meeting date.

Authority: 16 U.S.C. 1801 et seq.

Dated: September 5, 2003.
John H. Dunnigan,
Director, Office of Sustainable Fisheries, National Marine Fisheries Service.

[FR Doc. 03-23004 Filed 9-8-03; 8:45 am]

BILLING CODE 3510-22-S